DEPARTMENT OF ENERGY

Federal Energy Regulatory Commission

18 CFR part 390

[Docket No. RM02-10-000; Order No. 891]

Electronic Registration

December 20, 2002.

AGENCY: Federal Energy Regulatory Commission.

ACTION: Notice of extension of effective date.

SUMMARY: The Federal Energy Regulatory Commission is extending the effective date of its requirement that users of its online applications register electronically. This extension is necessary because the eRegistration system will not be sufficiently implemented by the original effective date of January 7, 2003.

FOR FURTHER INFORMATION CONTACT:

Christopher Cook (information technology advisor), Office of the Chief Information Officer, Federal Energy Regulatory Commission, 888 First Street, NE., Washington, DC 20426, (202) 502-8102.

Wilbur Miller (legal advisor), Office of General Counsel, Federal Energy Regulatory Commission, 888 First Street, NE., Washington, DC 20426, (202) 502-8953.

1. On August 5, 2002, the Commission issued Order No. 891, establishing a system of electronic registration to act as a gateway to its online services.¹ The eRegistration system will allow users to input identifying information only once as a precursor to using services such as electronic filing, electronic subscription, or electronic service. The registration system has been available on the Commission's web site, http://www.ferc.gov, since September as a voluntary system. Order No. 891 provided that eRegistration would become mandatory on January 7, 2003.²

¹ See 18 CFR part 390 (2001).

² FERC Stats. & Regs. ¶ 31,132, at p. 30,195 (2002), codifying requirement at 18 CFR § 390.1.

2. Currently, eRegistration is not fully integrated with the online services with which it will operate, and this was expected to be the case on the original effective date. The Commission thus will extend the effective date until adequate integration is achieved. Once the system is ready, the Secretary of the Commission will issue a notice of the time when the eRegistration requirement will become effective. In the interim, eRegistration may be a prerequisite for the use of some informational services, such as electronic subscription.

The Commission orders: The effective date of 18 CFR 390.1 is extended until the new effective date is announced by the Secretary.

By the Commission.
Magalie R. Salas,
Secretary.

[FR Doc. 03-834 Filed 1-14-03; 8:45 am]

BILLING CODE 6717-01-P